DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Radio Frequency Cauterization Biopsy

Bradford J. Wood and Christan Pavlovich (CC)

DHHS Reference Nos. E-207-01/0 filed Oct 17, 2001 and E-207-01/1 filed Apr 08, 2002

Licensing Contact: Dale Berkley; 301/496-7735 ext. 223; e-mail: berkleyd@od.nih.gov.

The invention is a method and apparatus for using radio frequency (RF) energy to cauterize the needle track after percutaneous image-guided needle biopsy using an RF ablation probe. The invention is designed to limit the risks of bleeding and needle track seeding that are inherent risks of any needle biopsy. The device uses a coaxial biopsy arrangement with the outer needle coated with a non-conducting polymer that insulates the needle shaft and the tissue immediately in contact with the shaft. As the needle is pulled back from the organ or tumor target, RF energy is applied to an exposed end portion of the probe, causing cauterization and coagulation of the tissue immediately adjacent to the needle track. A variation on the device could be used to limit bleeding after catheter placement into organs, such as for nephrostomy, biliary drainage, or transhepatic islet cell transplantation.

Method and Apparatus for Countercurrent Chromatography

Yoichiro Ito (NHLBI)

DHHS Reference No. E-148-01/0 filed Apr 05, 2002

Licensing Contact: Dale Berkley; 301/496-7735 ext. 223; e-mail: berkleyd@od.nih.gov.

This invention is an improved column design for High Speed Counter Current Chromatography (HSCCC) that increases partition efficiency by using novel tubing geometries. A standard HSCCC centrifuge uses a multilayer coil as a separation column to produce a high efficiency separation with good retention of the stationary phase in many solvent systems. However, the standard HSCCC, when used for highly viscous, low interfacial solvent systems, is unsuccessful at retaining a suitable amount of the stationary phase. This invention greatly improves efficiency by modifying the column from a coil to spiral geometry. Thereby, this invention creates a centrifugal force gradient, which allows for distribution of the heaver phase in the peripheral and the lighter phase in the proximal part of the column. The effect of the gradient becomes more pronounced as the pitch of the spiral is increased.

Method for Segmenting Medical Images and Detecting Surface Anomalies in Anatomical Structures

Ronald M. Summers et al. (CC)

U.S. Patent 6,246,784 issued Jun 12, 2001; U.S. Patent 6,345,112 issued Feb 05 2002; Serial No. 10/072,667 filed Feb 05, 2002

Licensing Contact: Dale Berkley; 301/496-7735 ext. 223; e-mail: berkleyd@od.nih.gov.

The invention is a method for automatically detecting surface anomalies in anatomical structures in virtual colonoscopy and other imaging studies. A region growing method segments three-dimensional image data of an anatomical structure using a tortuous path length limit to constrain voxel growth. The path length limit constrains the number of successive generations of voxel growth from a seed point to prevent leakage of voxels outside the boundary of the anatomical structures. Once segmented, a process for detecting surface anomalies performs a curvature analysis on a computer model of the surface of the structure. This process detects surface anomalies automatically by traversing the vertices in the surface model, computing partial derivatives of the surface at the vertices, and computing curvature characteristics from the partial derivatives. To identify possible anomalies, the process compares the curvature characteristics with predetermined curvature characteristics of anomalies and classifies the vertices. The process further refines potential anomalies by segmenting neighboring vertices that are classified as being part of an anomaly using curvature characteristics. Finally, the process colorizes the anomalies, and computes a camera position and direction for each one to assist the user in viewing 2D rendering of the computer model.

The method may be useful for automated detection of inflammatory, pre-cancerous and cancerous lesions of internal body cavities, such as the colon, airways, blood vessels and bladder. An example of a potential commercial application is as a component of software for clinical interpretation of virtual colonoscopy (CT colonography) examinations.

This research is also described in Summers et al., “Automated Polyp Detection at CT Colonography: Feasibility Assessment in a Human Population,” Radiology 219:51-59 (2001) and in Summers et al., “Complementary Role of Computer-Aided Detection of Colonic Polyps with CT Colonography,” Radiology, in press.

Dated: June 24, 2002.
Jack Spiegel,
Director, Division of Technology Development and Transfer, Office of Technology Transfer, National Institutes of Health.

[FR Doc. 02-16795 Filed 7-3-02; 8:45 am]

BILLING CODE 4140-01-P